DEPARTMENT OF COMMERCE

International Trade Administration

[A-552-817]

Certain Oil Country Tubular Goods From the Socialist Republic of Vietnam: Final Results of Antidumping Duty Administrative Review; 2019-2020

AGENCY: Enforcement and Compliance, International Trade Administration, Department of Commerce.

SUMMARY: The Department of Commerce (Commerce) finds that certain oil country tubular goods (OCTG) from the Socialist Republic of Vietnam (Vietnam) were sold in the United States at less than normal value for the period of review (POR) September 1, 2019, through August 31, 2020.

DATES: Applicable April 11, 2022.

FOR FURTHER INFORMATION CONTACT: Fred Baker, AD/CVD Operations, Office VI, Enforcement and Compliance, International Trade Administration, U.S. Department of Commerce, 1401 Constitution Avenue NW, Washington, DC 20230; telephone: (202) 482-2924.

SUPPLEMENTARY INFORMATION:

Background

On January 28, 2021, Commerce published the Preliminary Results.¹ On November 8, 2021, we received case briefs from Maverick Tube Corporation, Tenaris Bay City, Inc., and IPSCO Tubulars, Inc. (collectively, the petitioners) and from SeAH Steel VINA Corporation (SeAH VINA) and Pusan Pipe America, Inc. (Pusan Pipe) (collectively, SSV).² On November 15, 2021, the petitioners and SSV submitted rebuttal briefs.³ On March 16, 2022, Commerce rejected the case briefs of the petitioners and SSV because they contained new factual information after the deadline for such information.⁴ The petitioners and SSV submitted redacted versions of their case briefs on March 18, 2022.⁵ On January 28, 2022, we extended the deadline for the final results of this review until April 5, 2022.⁶

¹ See Certain Oil Country Tubular Goods from the Socialist Republic of Vietnam: Preliminary Results of Antidumping Duty Administrative Review, 86 FR 55807 (October 7, 2021) (Preliminary Results), and accompanying Preliminary Decision Memorandum.

² See Petitioners' Letter, “Oil Country Tubular Goods from the Socialist Republic of Vietnam: Case Brief of Maverick Tube Corporation, Tenaris Bay City, Inc., and IPSCO Tubulars Inc.,” dated November 8, 2021; and SSV's Letter, “Administrative Review of the Antidumping Duty Order on Certain Oil Country Tubular Goods from Vietnam—Case Brief of SeAH Steel VINA Corporation and Pusan Pipe America, Inc.,” dated November 8, 2021.

³ See Petitioners' Letter, “Oil Country Tubular Goods from the Socialist Republic of Vietnam: Rebuttal Brief of Maverick Tube Corporation, Tenaris Bay City, Inc., and IPSCO Tubulars Inc.,” dated November 15, 2021; see also SSV's Letter, “Administrative Review of the Antidumping Duty Order on Certain Oil Country Tubular Goods from Vietnam—Rebuttal Brief of SeAH Steel VINA Corporation and Pusan Pipe America, Inc.,” dated November 15, 2021.

⁴ See Commerce's Letters, “Antidumping Duty Administrative Review of Oil Country Tubular Goods from the Socialist Republic of Vietnam; 2019-20: Rejection of Case Brief Filed by Maverick Tube Corporation, Tenaris Bay City, Inc., and IPSCO Tubulars, Inc., and Request for Resubmission of Its Case Brief,” dated March 16, 2022; and “Antidumping Duty Administrative Review of Oil Country Tubular Goods from the Socialist Republic of Vietnam; 2019-20: Rejection of Case Brief of SeAH Steel VINA Corporation and Pusan Pipe America, Inc., and Request for Resubmission of Its Case Brief,” dated March 16, 2022.

⁵ See Petitioners' Letter, “Oil Country Tubular Goods from the Socialist Republic of Vietnam: Resubmission of Case Brief,” dated March 18, 2022; and SSV's Letter, “Administrative Review of the Antidumping Order on Oil Country Tubular Goods from Vietnam—Redacted Case Brief of SeAH Steel VINA Corporation and Pusan Pipe America, Inc.,” dated March 18, 2022.

⁶ See Memorandum, “Oil Country Tubular Goods from the Socialist Republic of Vietnam: Extension of Deadline for Final Results of Antidumping Duty Administrative Review,” dated January 28, 2022.

For a complete description of the events that followed the Preliminary Results of this administrative review, see the Issues and Decision Memorandum, dated concurrently with these final results and hereby adopted by this notice.⁷ Commerce is conducting an administrative review of the antidumping duty order on OCTG from Vietnam ⁸ in accordance with section 751(a) of the Tariff Act of 1930, as amended (the Act).

⁷ See Memorandum, “Issues and Decision Memorandum for the Final Results of the Antidumping Duty Administrative Review of Certain Oil Country Tubular Goods from the Socialist Republic of Vietnam,” dated concurrently with, and hereby adopted by, this notice (Issues and Decision Memorandum).

⁸ See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014) (Order).

Scope of the Order

The merchandise covered by the Order is OCTG from Vietnam. For a full description of the merchandise covered by the scope of the Order, see the Issues and Decision Memorandum.

Analysis of Comments Received

Commerce addressed all issues raised in the case and rebuttal briefs in the Issues and Decision Memorandum. A list of the issues that parties raised and to which we responded in the Issues and Decision Memorandum is attached to this notice as the appendix. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding the Preliminary Results, we made certain changes to the margin calculation for SSV. For a discussion of the issues, see the Issues and Decision Memorandum.

Separate Rates

No parties commented on our preliminary separate rate findings. Therefore, we have continued to grant SSV separate rate status.

Final Results of Review

Commerce determines that the following weighted-average dumping margin exists for the period September 1, 2019, through August 31, 2020:

⁹ Commerce initiated a review of both SeAH VINA and Pusan Pipe, but the record shows that Pusan Pipe is a U.S. importer of OCTG that is affiliated with SeAH VINA and does not produce OCTG. See SSV's Letter, “Administrative Review of the Antidumping Duty Order on Certain Oil Country Tubular Goods from Vietnam—Response to the Department's November 4 Questionnaire,” dated December 4, 2020 at 1. Therefore, we have not calculated a rate for Pusan Pipe.

Exporter | Weighted- average dumping margin (percent)
SeAH Steel VINA Corporation ⁹ | 1.49

Disclosure

Commerce intends to disclose the calculations performed for these final results of review within five days of the date of publication of this notice in the Federal Register, in accordance with 19 CFR 351.224(b).

Assessment

Pursuant to section 751(a)(2)(C) of the Act and 19 CFR 351.212(b)(1), Commerce has determined, and U.S. Customs and Border Protection (CBP) shall assess, antidumping duties on all appropriate entries of subject merchandise in accordance with the final results of this review.

Consistent with its recent notice,¹⁰ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁰ See Notice of Discontinuation Policy to Issue Liquidation Instructions After 15 Days in Applicable Antidumping and Countervailing Duty Administrative Proceedings, 86 FR 3995 (January 15, 2021).

Where the respondent's weighted-average dumping margin is zero or de minimis, or where an importer- (or customer-) specific ad valorem or per-unit rate is zero or de minimis, Commerce will instruct CBP to liquidate appropriate entries without regard to antidumping duties.¹¹ For entries that were not reported in the U.S. sales database submitted by an exporter individually examined during this review, but that entered under the case number of that exporter (i.e., at the individually-examined exporter's cash deposit rate), Commerce will instruct CBP to liquidate such entries at the Vietnam-wide rate (i.e., 111.47 percent).¹²

¹¹ See Antidumping Proceedings: Calculation of the Weighted-Average Dumping Margin and Assessment Rate in Certain Antidumping Proceedings: Final Modification, 77 FR 8101 (February 14, 2012).

¹² See Certain Oil Country Tubular Goods from India, the Republic of Korea, Taiwan, the Republic of Turkey, and the Socialist Republic of Vietnam: Antidumping Duty Orders; and Certain Oil Country Tubular Goods from the Socialist Republic of Vietnam: Amended Final Determination of Sales at Less Than Fair Value, 79 FR 53691 (September 10, 2014).

For the individually-examined respondent whose weighted-average dumping margin is above de minimis (i.e., 0.50 percent), Commerce will calculate importer-specific assessment rates on the basis of the ratio of the total amount of antidumping duties calculated for each importer's examined sales and the total entered value of the sales, in accordance with 19 CFR 351.212(b)(1).

Additionally, if Commerce determines that an exporter under review had no shipments of subject merchandise, any suspended entries that entered under the exporter's case number (i.e., at that exporter's rate) will be liquidated at the Vietnam-wide rate.¹³

¹³ See Non-Market Economy Antidumping Proceedings: Assessment of Antidumping Duties, 76 FR 65694 (October 24, 2011).

Cash Deposit Requirements

The following cash deposit requirements will be effective upon publication of the final results of this administrative review for all shipments of the subject merchandise from Vietnam entered, or withdrawn from warehouse, for consumption on or after the publication date, as provided for by section 751(a)(2)(C) of the Act: (1) For SeAH VINA, a cash deposit rate of 1.49 percent; (2) for previously investigated or reviewed Vietnamese and non-Vietnamese exporters not listed above that received a separate rate in a prior segment of this proceeding, the cash deposit rate will continue to be the exporter-specific rate published for the most-recently completed segment of this proceeding in which the exporter was reviewed; (3) for all Vietnamese exporters of subject merchandise which have not been found to be entitled to a separate rate, the cash deposit rate will be the rate established for the Vietnam-wide entity, which is 111.47 percent; ¹⁴ and (4) for all non-Vietnamese exporters of subject merchandise which have not received their own rate, the cash deposit rate will be the rate applicable to the Vietnamese exporter that supplied that non-Vietnamese exporter with the subject merchandise. These deposit requirements, when imposed, shall remain in effect until further notice.

¹⁴ See Order.

Notification to Importers Regarding the Reimbursement of Duties

This notice serves as a final reminder to importers of their responsibility under 19 CFR 351.402(f)(2) to file a certificate regarding the reimbursement of antidumping duties prior to liquidation of the relevant entries during the review period. Failure to comply with this requirement could result in Commerce's presumption that reimbursement of antidumping duties occurred and the subsequent assessment of doubled antidumping duties.

Notification Regarding Administrative Protective Order

This notice also serves as the only reminder to parties subject to administrative protective order (APO) of their responsibility concerning the disposition of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, 19 CFR 351.213, and 19 CFR 351.221(b)(5).

Dated: April 5, 2022.
Lisa W. Wang,
Assistant Secretary for Enforcement and Compliance.

Appendix

List of Topics Discussed in the Issues and Decision Memorandum

I. Summary

II. Background

III. Scope of the Order

IV. Separate Rates

V. Changes Since the Preliminary Results

VI. Discussion of the Issues

Comment 1: Whether to Include Another Harmonized Tariff Schedule of the United States Heading in Establishing the Surrogate Value for Hot-Rolled Coil and How to Determine the Surrogate Value

Comment 2: Whether to Disregard Certain Financial Statements Used in the Preliminary Results to Calculate Financial Ratios

Comment 3: Whether Commerce's Differential Pricing Methodologies Are Appropriate

Comment 4: Whether to Value Water as a Factor of Production

Comment 5: Whether to Deduct Section 232 Duties from U.S. Price

Comment 6: Whether Commerce Made Ministerial Errors in its Preliminary Results

VII. Recommendation

[FR Doc. 2022-07722 Filed 4-8-22; 8:45 am]

BILLING CODE 3510-DS-P